DEPARTMENT OF COMMERCE

International Trade Administration

[C-475-819]

Notice of Correction to the Preliminary and Final Results of the Eighth Countervailing Duty Administrative Review: Certain Pasta from Italy

AGENCY: Import Administration, International Trade Administration, Department of Commerce.

EFFECTIVE DATE: October 28, 2005.

FOR FURTHER INFORMATION CONTACT: Brandon Farlander at (202) 482-0182 or Marc Rivitz at (202) 482-1382; Import Administration, International Trade Administration, U.S. Department of Commerce, 14th Street and Constitution Avenue, NW., Washington, DC 20230.

SUPPLEMENTARY INFORMATION:

Correction

On August 30, 2004, the Department published in the Federal Register a notice of initiation for the eighth administrative review (January 1, 2003 through December 31, 2003) of certain pasta from Italy (see Initiation of Antidumping and Countervailing Duty Administrative Reviews and Requests for Revocation in Part, 69 FR 52857 (August 30, 2004) (“Initiation Notice”)). In the published version of that notice, the Department initiated its review of producer Corticella Molini e Pastifici S.p.A./Pasta Combattenti S.p.A. However, in Certain Pasta from Italy: Preliminary Results and Partial Rescission of the Eighth Countervailing Duty Administrative Review, 70 FR 17971 (April 8, 2005) (“Preliminary Results”) and Certain Pasta from Italy: Final Results of the Eighth Countervailing Administrative Review, 70 FR 37084 (June 28, 2005) (“Final Results”), the producer was incorrectly referred to as Pastificio Corticella S.p.A./Pastificio Combattenti S.p.A. The correct name is Corticella Molini e Pastifici S.p.a./Pasta Combattenti S.p.a., as indicated in the initiation notice. See Initiation Notice. We are issuing this notice to correct the name that appeared in the Preliminary Results and Final Results.

We note that we attributed any subsidies received by both Corticella Molini e Pastifici S.p.a. and Pasta Combattenti S.p.a to the combined sales of these companies. See Certain Pasta from Italy: Preliminary Results and Partial Rescission of the Seventh Countervailing Duty Administrative Review, 69 FR 45676 (July 30, 2004). Therefore, the Department will issue liquidation instructions assigning to both Corticella Molini e Pastifici S.p.a. and Pasta Combattenti S.p.a. the calculated rate of 0.0 percent for this segment of the proceeding.

This notice is issued and published pursuant to section 777(i)(1) of the Act.

Dated: October 21, 2005.
Joseph A. Spetrini,
Acting Assistant Secretary for Import Administration.

[FR Doc. E5-5986 Filed 10-27-05; 8:45 am]

BILLING CODE 3510-DS-S